DEPARTMENT OF TRANSPORTATION

Office of the Secretary

Proposed Revocation of the Canadian Charter Air Taxi Authority of Flight-Ops International, Inc., D/B/A SkyXpress Airline

AGENCY: Department of Transportation.

ACTION: Notice of Order To Show Cause (Order 2007-2-20), Docket OST-2003-15099.

SUMMARY: The Department of Transportation is directing all interested persons to show cause why it should not issue an order revoking the Canadian charter air taxi registration of Flight-Ops International d/b/a SkyXpress Airline.

DATES: Persons wishing to file objections should do so no later than March 7, 2007.

ADDRESSES: Objections and answers to objections should be filed in Docket OST-2003-15099 and addressed to U.S. Department of Transportation, Docket Operations, (M-30, Room PL-401), 400 Seventh Street, SW., Washington, DC 20590, and should be served upon the parties listed in Attachment A to Order 2007-2-20.

FOR FURTHER INFORMATION CONTACT: Jonathan R. Dols, Office of Aviation Enforcement and Proceedings (C-70, Room 4116), U.S. Department of Transportation, 400 Seventh Street, SW., Washington, DC 20590, (202) 366-9342.

Dated: February 20, 2007.
Andrew Steinberg,
Assistant Secretary for Aviation and International Affairs.

[FR Doc. 07-880 Filed 2-27-07; 8:45 am]

BILLING CODE 4910-9X-M